DEPARTMENT OF HOMELAND SECURITY

Transportation Security Administration

Extension of Agency Information Collection Activity Under OMB Review: Sensitive Security Information Threat Assessments

AGENCY: Transportation Security Administration, DHS.

ACTION: 30-day Notice.

SUMMARY: This notice announces that the Transportation Security Administration (TSA) has forwarded the Information Collection Request (ICR), Office of Management and Budget (OMB) control number 1652-0042, abstracted below to OMB for review and approval of an extension of the currently approved collection under the Paperwork Reduction Act (PRA). The ICR describes the nature of the information collection and its expected burden. TSA published a Federal Register notice, with a 60-day comment period soliciting comments, of the following collection of information on August 16, 2013, 78 FR 50076. A correction has been made in this notice to the number of burden hours per respondent from 1 to 2.7 hours. The increase in burden hours is based on historical data collected over the past three years. The collection involves TSA determining whether the party or representative of a party seeking access to sensitive security information (SSI) in a civil proceeding in federal court, or a prospective bidder seeking access to SSI for the purpose of perfecting a proposal in response to a TSA request for proposal, may be granted access to the SSI.

DATES: Send your comments by February 14, 2014. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Joanna Johnson, TSA PRA Officer, Office of Information Technology (OIT), TSA-11, Transportation Security Administration, 601 South 12th Street, Arlington, VA 20598-6011; telephone (571) 227-3651; email TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Sensitive Security Information Threat Assessments.

Type of Request: Extension of a currently approved collection.

OMB Control Number: 1652-0042.

Forms(s): TSA 2211.

Affected Public: Individuals seeking access to SSI Information.

Abstract: TSA has implemented section 525 of the DHS Appropriations Act, 2007, Public Law 109-925, see 525(d) (October 4, 2006), as reenacted,¹ by establishing a process whereby a party seeking access to SSI in a civil proceeding in federal court that demonstrates a substantial need for relevant SSI in preparation of the party's case may request that the party representative or court reporter be granted access to the SSI. Under section 114 of the Aviation and Transportation Security Act, Pub. L. 107-71 (November 19, 2001), and 49 CFR 1520.11(c), TSA may make an individual's access to SSI contingent upon satisfactory completion of a security background check or other procedures and requirements for safeguarding SSI that are satisfactory to TSA, and TSA uses the same process for a prospective bidder who is seeking access to SSI to submit a proposal in response to a request for proposal by TSA. The prospective bidder may request certain SSI to perfect their bid.

¹ Consolidated and Further Continuing Appropriations Act, 2013, Pub. L. 113-6, Div. D., Title V., sec. 510 (March 26, 2013).

In order to determine if the individual may be granted access to SSI for these purposes, TSA conducts a criminal history records check (CHRC), professional responsibility check, and threat assessment. Individuals are required to submit information including identifying information and an explanation supporting the individual's need for the information.

Number of Respondents: 127

Estimated Annual Burden Hours: An estimated 343 hours annually.

Dated: January 10, 2014.
Joanna Johnson,
TSA Paperwork Reduction Act Officer, Office of Information Technology.

[FR Doc. 2014-00631 Filed 1-14-14; 8:45 am]

BILLING CODE 9110-05-P